DEPARTMENT OF HEALTH AND HUMAN SERVICES

Centers for Medicare & Medicaid Services

[Document Identifier: CMS-R-138, CMS-10882 and CMS-10716]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by August 27, 2025.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Reinstatement with change of a previously approved collection; Title of Information Collection: Medicare Geographic Classification Review Board Procedures and Criteria; Use: During the first few years of IPPS, hospitals were paid strictly based on their physical geographic location concerning the wage index (Metropolitan Statistical Areas (MSAs)) and the standardized amount (rural, other urban, or large urban). However, a growing number of hospitals became concerned that their payment rates were not providing accurate compensation. The hospitals argued that they were not competing with the hospitals in their own geographic area, but instead that they were competing with hospitals in neighboring geographic areas.

At that point, Congress enacted Section 1886(d)(10) of the Act which enabled hospitals to apply to be considered part of neighboring geographic areas for payment purposes based on certain criteria. The application and decision process are administered by the MGCRB which is not a part of CMS so that CMS could not be accused of any untoward action. However, CMS needs to remain apprised of any potential payment changes. Hospitals are required to provide CMS with a copy of any applications that they made to the MGCRB. CMS also developed the guidelines for the MGCRB that were the interim final issue of the Federal Register and must ensure that the MGCRB properly applied the guidelines. This check and balance process also contributes to limiting the number of hospitals that ultimately need to appeal their MGCRB decisions to the CMS Administrator. Form Number: CMS-R-138 (OMB control number: 0938-0573); Frequency: Occasionally; Affected Public: Businesses or other for-profits and Not-for-profit institutions; Number of Respondents: 850; Total Annual Responses: 850; Total Annual Hours: 850. (For policy questions regarding this collection contact Noel Manlove at 410-786-5161.)

2. Type of Information Collection Request: Revision of a currently approved collection; Title of Information Collection: Part C and Part D Medicare Prescription Payment Plan Model Documents; Use: Sections 1860D-2(b)(2)(E)(v)(II)-(IV) of the Act state the requirements for Part D plan sponsors in implementing the program, which include the processes for outreach to enrollees identified as likely to benefit, election, and termination. Subsection II states that any Part D enrollee may elect into the program prior to or during the plan year. Subsection III details that Part D plan sponsors and MA organizations must have a mechanism in place to inform enrollees that they are likely to benefit from electing into the program at the point of sale (POS). Subsection IV(aa) states that plans must terminate a beneficiary's participation in the program when the beneficiary fails to pay the amounts owed under this program.

CMS has developed the seven model notices to provide standardized and consistent language for potential and active program participants, regardless of which Part D plan they may be enrolled in. The seven model notices and their content serve as an example of how to convey information on the Medicare Prescription Payment Plan to Part D enrollees and program participants, as applicable. Though Part D plan sponsors are not required to use the model materials and content verbatim, use of the model materials will satisfy the communications requirements included in § 423.137. If a Part D plan sponsor chooses not to use a model material, they must meet the content requirements in § 423.137 for the alternate notices they develop. CMS notes that the “Medicare Prescription Payment Plan Likely to Benefit Notice,” is a standardized material that Part D plan sponsors are required to use in the form and manner provided by CMS. Form Number: CMS-10882 (OMB control number: 0938-1475); Frequency: Yearly; Affected Public: Individuals and Households, Private Sector, Federal Government, Businesses or other for-profits and Not-for-profit institutions; Number of Respondents: 234,227; Total Annual Responses: 39,514,987; Total Annual Hours: 135,080. (For policy questions regarding this collection contact Deven Gosalia at (410)786-8264 or Deven.gosalia@cms.hhs.gov.)

3. Type of Information Collection Request: Revision with change of a currently approved collection; Title of Information Collection: Applicable Integrated Plan Coverage Decision Letter; Use: Section 1859(f)(8) of the Act requires development of unified grievance and appeals processes for D-SNPs, to the extent feasible. We finalized regulations for integrated organization determinations at § 422.631, affecting D-SNP administration for January 1, 2021 and beyond. The rule requires applicable integrated plans to send an enrollee a written notice of any adverse decision on an integrated organization determination using a notice that is written in plain language and contains the information detailed at § 422.631(d)(1)(iii).

Applicable integrated plans as defined at § 422.561 issue form CMS-10716 when a request for either a medical service or payment is denied in whole or in part after considering both the Medicare and Medicaid benefit. Applicable integrated plans issue this form to enrollees when the plan reduces, stops, suspends, changes, or denies, in whole or in part, a request for a service or item (including a Part B drug) or a request for payment of a service or item (including a Part B drug) that the enrollee has already received. The form provides the enrollee with information regarding their right to an appeal of the applicable integrated plan's decision and the enrollee will use the instructions to navigate the appeal process. Form Number: CMS-10716 (OMB control number 0938-1386); Frequency: Occasionally; Affected Public: Private Sector and Business or other for-profits; Number of Respondents: 129; Number of Responses: 10,468; Total Annual Hours: 1,745. (For questions regarding this collection contact Kristi Sugarman at 415-744-3629.)

William N. Parham, III,
Director, Division of Information Collections and Regulatory Impacts, Office of Strategic Operations and Regulatory Affairs.

[FR Doc. 2025-14210 Filed 7-25-25; 8:45 am]

BILLING CODE 4120-01-P